DEPARTMENT OF COMMERCE

Foreign-Trade Zones Board

[B-1-2026]

Foreign-Trade Zone (FTZ) 18; Notification of Proposed Production Activity; Rose Electronics Distributing Company, LLC; (Battery Packs); San Jose, CA

Rose Electronics Distributing Company, LLC submitted a notification of proposed production activity to the FTZ Board (the Board) for its facility in San Jose, California within FTZ 18. The notification conforming to the requirements of the Board's regulations (15 CFR 400.22) was received on January 7, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Custom rechargeable lithium-ion battery pack assemblies; Primary (non-rechargeable) battery pack assemblies; Smart rechargeable battery packs with integrated firmware/software; Battery packs with integrated communication modules (SMBus, CAN, BLE, Wi-Fi); Rechargeable battery packs bundled with chargers or accessories; Standalone rechargeable battery cells (for distribution); Standalone battery management systems (BMS); Modular energy storage systems (ESS) for stationary, commercial, or grid applications; Integrated energy storage systems with power conversion (inverters/rectifiers); Swappable or removable battery modules for EV, robotics, or industrial platforms; Vehicle-grade battery pack assemblies for electric mobility applications; Micro-battery systems and wearable power modules; Battery energy storage cabinets with integrated control and monitoring panels; and Battery systems integrated into uninterruptible power supply (UPS) units (duty rate ranges from 2.70 to 3.40%).

The proposed foreign-status materials/components include: Lithium-ion rechargeable cells; Primary non-rechargeable battery cells; Nickel-cadmium rechargeable cells; Lead-acid storage battery cells; Bare printed circuit boards; Battery management system printed circuit board (PCB) assemblies; Microprocessors; Electrically erasable programmable read-only memory (EEPROM) chips; Operational Amplifiers; Logic Integrated Circuits; Metal-oxide semiconductor field-effect transistor (MOSFET) switching transistors; Diodes; Bipolar junction transistors; Controller Area Network (CAN) Interface Modules; System Management Bus (SMBus) Communication Interface Modules; Bluetooth Low Energy (BLE) Communication Modules; Wi-Fi communication modules; Fuses; Resettable positive temperature coefficient protector (PTC) devices; Thermal fuses; Circuit breakers; Surge protectors; Temperature sensors; Voltage sensors; Current sensors; Electrical connectors; Wire-to-board connectors; Terminal lugs and contacts; Insulated wire and cable; Wiring harnesses; Copper winding wire; Plastic insulation films; Plastic parts for battery assemblies; Aluminum battery housings; Steel Mounting Brackets; DC-DC converters; AC-DC power supplies; Battery chargers; Rectifiers; Thermal interface materials; Epoxy-Based Potting compounds; Silicone-Based Potting compounds; Epoxy-Based adhesives; Silicone-Based adhesives; Acrylic-Based adhesives; Label stock; Shrink-wrap tubing; Audible buzzers/alarms; and Mechanical molds (duty rate ranges from duty-free to 5.30%). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is February 23, 2026.

A copy of the notification will be available for public inspection in the “Online FTZ Information System” section of the Board's website.

For further information, contact John Frye at john.frye@trade.gov.

Dated: January 9, 2026.
Elizabeth Whiteman,
Executive Secretary.

[FR Doc. 2026-00486 Filed 1-12-26; 8:45 am]

BILLING CODE 3510-DS-P